DEPARTMENT OF COMMERCE

National Oceanic and Atmospheric Administration

[I.D. 072803A]

ICCAT Advisory Committee; Public Meeting

AGENCY: National Marine Fisheries Service (NMFS), National Oceanic and Atmospheric Administration (NOAA), Commerce.

ACTION: Notice of public meeting.

SUMMARY: The Advisory Committee to the U.S. Section to the International Commission for the Conservation of Atlantic Tunas (ICCAT), in conjunction with the International Fisheries Division of NMFS, announces a regional public meeting to be held in August in the U.S. Virgin Islands.

DATES: The meeting is scheduled for August 14, 2003, from 6 p.m. to 9 p.m.

ADDRESSES: The meeting will be held in St. Thomas, U.S. Virgin Islands at the Virgin Island Game Fishing Club at Red Hook, 6501 Red Hook Plaza, St. Thomas, V.I. 00802.

FOR FURTHER INFORMATION CONTACT: Erika Carlsen at (301) 713-2276.

SUPPLEMENTARY INFORMATION: The following topics may be presented to the public for discussion at the regional public meeting:

(1) Background on ICCAT

(2) Information on the Advisory Committee and Commissioners

(3) Status of Highly Migratory Species Managed by ICCAT

(4) Topics for the 2003 ICCAT Annual Meeting

Representatives from the Advisory Committee to the U.S. Section to ICCAT and NMFS will be in attendance at the regional public meeting. There will be an opportunity for public comment on each of these international issues. The length of the meeting may be adjusted based on the progress of the discussions.

Please be reminded that NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting locations are physically accessible to people with disabilities. Requests for sign language interpretation or other auxiliary aids should be directed to Erika Carlsen at (301) 713-2276 at least 5 days prior to the meeting date.

Dated: July 29, 2003.
Bruce Morehead,
Acting Director, Office of Sustainable Fisheries, National Marine Fisheries Service.

[FR Doc. 03-19702 Filed 8-1-03; 8:45 am]

BILLING CODE 3510-22-S